DEPARTMENT OF COMMERCE

National Oceanic and Atmospheric Administration

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings, June 1-9, 2015.

DATES: The Council will begin its plenary session at 8 a.m. on Wednesday, June 3, continuing through Tuesday, June 9, 2015. The Scientific Statistical Committee (SSC) will begin at 8 a.m. on Monday, June 1 and continue through Wednesday, June 3, 2015. The Council's Advisory Panel (AP) will begin at 8 a.m. on Tuesday, June 2, and continue through Saturday, June 6, 2015. All meetings are open to the public, except executive sessions. The Council's Legislative Committee will meet Tuesday, June 2 at the Westmark Hotel, 330 Seward Street, Founders Room, Sitka, AK 99835, from 1 p.m. to 5 p.m.

ADDRESSES: All meetings except for the Legislative Committee meeting will be held at the Centennial Hall, 330 Harbor Drive, Sitka, AK.

Council address: North Pacific Fishery Management Council, 605 W. 4th Avenue, Suite 306, Anchorage, AK 99501-2252.

FOR FURTHER INFORMATION CONTACT: David Witherell, Council staff; telephone: (907) 271-2809.

SUPPLEMENTARY INFORMATION:

Council Plenary Session: The agenda for the Council's plenary session will include the following issues. The Council may take appropriate action on any of the issues identified.

1. Executive Director's Report (including Draft National Standard 1 (NS1) comments/legislative updates, Fisheries Forum Information Network (FFIN))

NMFS Management Report

ADF&G Report

NOAA Enforcement Report

U.S. Coast Guard Report

U.S. FWS Report

Protected Species Report

2. BSAI Crab: Plan team report; Overfishing Levels/Acceptable Biological Catch (OFL/ABC) for 3 stocks

3. Final Action—Bering Sea Halibut Prohibited Species Catch (PSC)

4. Review Observer Program Supplemental Environmental Assessment (EA)

5. Review Observer Program Annual Report

6. Review Observer Advisory Committee (OAC) report

7. Electronic Monitoring (EM) Workgroup report

8. Observer coverage on BSAI trawl catcher vessels (CVs): Discuss alternatives

9. Final Action on Observer coverage on small Catcher Processors (CPs)

10. Determine priorities—Research Priorities

11. Initial review—Adak crab offload (T)

12. Pacific cod modeling report (SSC only)

13. Staff Tasking

The SSC agenda will include the following issues:

1. BSAI Crab

2. Halibut PSC

3. Observer Issues

4. Review NS Guidelines

5. Research Priorities

6. Pacific cod modeling report

7. Adak crab offload

In addition to providing ongoing scientific advice for fishery management decisions, the SSC functions as the Councils primary peer review panel for scientific information as described by the Magnuson-Stevens Act section 302(g)(1)(e), and the National Standard 2 guidelines (78 FR 43066). The peer review process is also deemed to satisfy the requirements of the Information Quality Act, including the OMB Peer Review guidelines.

The Agenda is subject to change, and the latest version will be posted at http://www.npfmc.org. Background documents, reports, and analyses for review are posted on the Council Web site in advance of the meeting. The names and organizational affiliations of SSC members are also posted on the Web site.

Although non-emergency issues not contained in this agenda may come before these groups for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: May 12, 2015.
Tracey L. Thompson,
Acting Deputy Director, Office of Sustainable Fisheries, National Marine Fisheries Service.

[FR Doc. 2015-11865 Filed 5-15-15; 8:45 am]

BILLING CODE 3510-22-P